GENERAL SERVICES ADMINISTRATION

41 CFR Part 102-72

[FMR Amendment 2008-02; FMR Case 2007-102-5]

RIN 3090-AI44

Federal Management Regulation; Delegated Leasing Authority, Real Property Policies Update

AGENCY: Office of Governmentwide Policy, General Services Administration (GSA).

ACTION: Final rule.

SUMMARY: The General Services Administration is amending the Federal Management Regulation (FMR) to limit General Purpose leasing delegations for space acquisitions up to a maximum of 19,999 rentable square feet.

DATES: Effective Date: January 14, 2008.

FOR FURTHER INFORMATION CONTACT The Regulatory Secretariat, Room 4035, GS Building, Washington, DC 20405, (202) 501-4755, for information pertaining to status or publication schedules. For clarification of content, contact Mr. Stanley C. Langfeld, Director, Regulations Management Division, Office of Governmentwide Policy, General Services Administration, at (202) 501-1737, or by e-mail at Stanley.langfeld@gsa.gov. Please cite FMR case 2007-102-5, Amendment 2008-02.

SUPPLEMENTARY INFORMATION:

A. Background

The Government Accountability Office and the General Services Administration Office of Inspector General have reported that some Federal agencies using the delegated leasing authority issued to Federal agencies on September 25, 1996, are not following properly the instructions specified as a condition for use of the leasing delegation. To address the concerns raised by these audits, to facilitate compliance with all applicable laws and regulations governing the acquisition of real property leasehold interests, and to minimize risk to the Federal Buildings Fund, GSA will no longer authorize General Purpose leasing delegations for space acquisitions in excess of 19,999 rentable square feet.

B. Executive Order 12866

The General Services Administration has determined that this final rule is not a significant regulatory action for the purposes of Executive Order 12866.

C. Regulatory Flexibility Act

This final rule is not required to be published in the Federal Register for comment. Therefore, the Regulatory Flexibility Act does not apply.

D. Paperwork Reduction Act

The Paperwork Reduction Act does not apply because the changes to the FMR do not impose information collection requirements that require the approval of the Office of Management and Budget under 44 U.S.C. 3501 et seq.

E. Small Business Regulatory Enforcement Fairness Act

This final rule is exempt from Congressional review under 5 U.S.C. 801, since it relates solely to agency management and personnel.

List of Subjects in 41 CFR Part 102-72

Delegations of Authority

Dated: December 14, 2007.
Lurita A. Doan
Administrator of General Services.

For the reasons set forth in the preamble, GSA amends 41 CFR § 102-72 as set forth below:

PART 102-72—DELEGATION OF AUTHORITY

1. The authority citation for 41 CFR part 102-72 continues to read as follows:

Authority: 40 U.S.C. 121(c), (d) and (e).

2. Amend § 102-72.30 by revising the first sentence of paragraph (b) to read as follows:

§ 102-72.30 What are the different types of delegations related to real estate leasing?

(b) The Administrator of General Services has issued a standing delegation of authority (under a program known as “Can't Beat GSA Leasing”) to the heads of all Federal agencies to accomplish all functions relating to leasing of up to 19,999 rentable square feet of general purpose space for terms of up to 20 years and below prospectus level requirements, regardless of geographic location. * * *

[FR Doc. E8-438 Filed 1-11-08; 8:45 am]

BILLING CODE 6820-14-S